DEPARTMENT OF AGRICULTURE

Forest Service

Juneau Advisory Committee

AGENCY: Forest Service, USDA.

ACTION: Notice of meeting.

SUMMARY: The Juneau Resource Advisory Committee (RAC) will meet in Juneau AK. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following Web site: https://www.fs.usda.gov/main/pts/specialprojects/racweb.

DATES: The meeting will be held February 15, 2017, 6:00 p.m.

All RAC meetings are subject to cancellation. For status of meeting prior to attendance, please contact the person listed under FOR FURTHER INFORMATION CONTACT.

ADDRESSES: The meeting will be held at Juneau Ranger District Office, 8510 Mendenhall Loop Road, 6 p.m.-8 p.m. If unable to attend in person, a bridge line will be set up. Call into the conference at 907-586-9398 during the meeting hours.

Written comments may be submitted as described under SUPPLEMENTARY INFORMATION. All comments, including names and addresses when provided, are placed in the record and are available for public inspection and copying. The public may inspect comments received at Juneau Ranger District Office, 8510 Mendenhall Loop Rd., Juneau. Please call ahead to facilitate entry into the building.

FOR FURTHER INFORMATION CONTACT: Karen Maher, RAC Coordinator, by phone at 907-789-6267 or via email at kmaher@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Discuss and decide on funding for any submitted project proposals.

The meeting is open to the public. The agenda will include time for people to make oral statements of three minutes or less. Individuals wishing to make an oral statement should request in writing by February 10, 2017 to be scheduled on the agenda. Anyone who would like to bring related matters to the attention of the committee may file written statements with the committee staff before or after the meeting. Written comments and requests for time to make oral comments must be sent to Karen Maher, RAC Coordinator, Juneau Ranger District, 8510 Mendenhall Loop Road, Juneau, AK 99801; by email to kmaher@fs.fed.us, or via facsimile to 907-586-8808.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: January 27, 2017.
Jeanne Higgins,
Acting Associate Deputy Chief, National Forest System.

[FR Doc. 2017-02452 Filed 2-6-17; 8:45 am]

BILLING CODE 3411-15-P